DEPARTMENT OF COMMERCE

International Trade Administration

[A-570-831]

Fresh Garlic From the People's Republic of China: Extension of Time Limit for the Preliminary Results of Antidumping Duty Administrative Review

AGENCY: Import Administration, International Trade Administration, Department of Commerce.

DATES: Effective August 3, 2005.

FOR FURTHER INFORMATION CONTACT: Sochieta Moth or Brian Ledgerwood, AD/CVD Operations, Office 5, Import Administration, International Trade Administration, U.S. Department of Commerce, 14th Street and Constitution Avenue, NW., Washington, DC 20230; telephone: (202) 482-0168 and (202) 482-3836, respectively.

Background

The Department of Commerce (the Department) published an antidumping duty on fresh garlic from the People's Republic of China on November 16, 1994. See Antidumping Duty Order: Fresh Garlic from the People's Republic of China, 59 FR 28462. On December 27, 2004, the Department published the Initiation of Antidumping and Countervailing Duty Administrative Reviews and Request for Revocation in Part, 69 FR 77181, in which it initiated an administrative review of this order for the period November 1, 2003, through October 31, 2004, for nineteen exporters: Clipper Manufacturing Ltd.; Fook Huat Tong Kee Pte., Ltd.; H&T Trading Company; Heze Ever-Best International Trade Co., Ltd.; Huaiyang Hongda Dehydrated Vegetable Company; Jinan Yipin Corporation, Ltd.; Jining Trans-High Trading Co., Ltd.; Jining Yun Feng Agriculture Products Co., Ltd.; Jinxiang Dong Yun Freezing Storage Co., Ltd.; Jinxiang Hongyu Freezing and Storing Co., Ltd.; Jinxiang Shanyang Freezing and Storage Co., Ltd.; Linshu Dading Private Agricultural Products Co., Ltd.; Pizhou Guangda Import and Export Co., Ltd.; Shanghai Ever Rich Trade Company; Shanghai LJ International Trading Co., Ltd.; Sunny Import & Export Limited; Taian Ziyang Food Co., Ltd.; Weifang Shennong Foodstuff Co., Ltd.; and Zhengzhou Harmoni Spice Co., Limited.

Extension of Time Limit for Preliminary Results

Section 751(a)(3)(A) of the Tariff Act of 1930, as amended (the Act), provides that the Department will issue the preliminary results of an administrative review of an antidumping duty order within 245 days after the last day of the anniversary month of the date of publication of the order. The Act provides further that the Department may extend that 245-day period to 365 days if it determines it is not practicable to complete the review within the foregoing time period.

The Department has determined that it is not practicable to complete the preliminary results by the current deadline of August 2, 2005. There are a number of complex factual and legal questions related to the calculation of the antidumping margins in this administrative review, in particular the analysis of the valuation of the factors of production. We require additional time to issue supplemental questionnaires, review the responses, and conduct verification if necessary. Therefore, in accordance with section 751(a)(3)(A) of the Act, the Department is extending the time limit for the preliminary results by 100 days, until no later than November 10, 2005.

We are issuing this notice in accordance with sections 751(a)(3)(A) and 777(i) of the Act.

Dated: July 28, 2005.
Barbara E. Tillman,
Acting Deputy Assistant Secretary for Import Administration.

[FR Doc. E5-4127 Filed 8-2-05; 8:45 am]

BILLING CODE 3510-DS-P